DEPARTMENT OF DEFENSE

Department of the Navy

Meeting of the Chief of Naval Operations (CNO) Executive Panel

AGENCY: Department of the Navy, DOD.

ACTION: Notice of closed meeting.

SUMMARY: The CNO Executive Panel is to report the findings and recommendations of the FORCEnet Working Group to the Chief of Naval Operations. This meeting will consist of discussions relating to development of FORCEnet, the Navy's transformational architecture for force integration and application. This meeting will be closed to the public.

DATE: The meeting will be held on Friday, September 12, 2003, from 11:30 a.m. to 12 p.m.

ADDRESS: The meeting will be held at the Office of the Chief of Naval Operations, Room 4E660, 2000 Navy Pentagon, Washington, DC 20350-2000.

FOR FURTHER INFORMATION CONTACT: Commander David Hughes, CNO Executive Panel, 4825 Mark Center Drive, Alexandria, VA 22311, (703) 681-4908, or Ms. Nancy Harned, (703) 681-4907.

SUPPLEMENTARY INFORMATION: Pursuant to the provisions of the Federal Advisory Committee Act (5 U.S.C. App. 2), these matters constitute classified information that is specifically authorized by Executive Order to be kept secret in the interest of national defense and are, in fact, properly classified pursuant to such Executive Order. Accordingly, the Secretary of the Navy has determined in writing that the public interest requires that all sessions of the meeting be closed to the public because they will be concerned with matters listed in section 552b(c)(1) of title 5, United States Code.

Due to an unavoidable delay in administrative processing, the 15 days in advance notice could not be provided.

Dated: September 8, 2003.
E.F. McDonnell,
Major, U.S. Marine Corps, Federal Register Liaison Officer.

[FR Doc. 03-23240 Filed 9-10-03; 8:45 am]

BILLING CODE 3810-FF-P